DEPARTMENT OF TRANSPORTATION

Office of the Secretary

Notice of Applications for Certificates of Public Convenience and Necessity and Foreign Air Carrier Permits Filed Under Subpart B (Formerly Subpart Q) During the Week Ending January 11, 2002

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2002-11315.

Date Filed: January 11, 2002.

Due Date for Answers, Conforming Applications, or Motion to Modify Scope: February 1, 2002.

Description

Joint Application of Aloha Airlines, Inc. and Hawaiian Airlines, Inc., pursuant to 49 U.S.C. 41105 and subpart B, requesting approval of the transfer of their respective international certificate authority; and, pursuant to 49 U.S.C. 40109, requests transfer of their outstanding international exemption authority.

Cynthia L. Hatten,
Federal Register Liaison.

[FR Doc. 02-2042 Filed 1-25-02; 8:45 am]

BILLING CODE 4910-62-P